DEPARTMENT OF COMMERCE

National Oceanic and Atmospheric Administration

[I.D. 121200I]

Endangered Species; Permits

AGENCY: National Marine Fisheries Service (NMFS), National Oceanic and Atmospheric Administration (NOAA), Commerce.

ACTION: Issuance of incidental take permit No.1269.

SUMMARY: Notice is hereby given that NMFS has issued a permit to Central Hudson Gas & Electric Corporation (CHGE) / Dynegy Danskammer, L.L.C. and Dynegy Roseton, L.L.C. that authorizes, subject to certain conditions set forth therein, take of the Endangered Species Act-listed shortnose sturgeon, incidental to the operation of the Roseton and Danskammer Point power plants on the Hudson River, New York.

ADDRESSES: The application and related documents are available for review in the following office by appointment:

Endangered Species Division, Office of Protected Resources, NMFS, 1315 East-West Highway, Silver Spring, MD 20910 or Protected Resources Division, F/NER3, One Blackburn Dr., Gloucester, MA 01930 (phone: 978-281-9328, fax: 978-281-9394).

FOR FURTHER INFORMATION CONTACT: Donna Brewer, Silver Spring, MD, phone: 301-713-1401; fax: 301-173-0376; e-mail: Donna.Brewer@noaa.gov or Mary Colligan, Gloucester, MA, phone: 978-281-9116; fax: 978-281-9394; e-mail: Mary.A.Colligan@noaa.gov.

SUPPLEMENTARY INFORMATION: The permit was issued under the authority of section 10(a)(1)(B) of the Endangered Species Act of 1973 (ESA)(16 U.S.C. 1531-1543) and the NMFS regulations governing ESA-listed fish and wildlife Permits (50 CFR parts 222-227). Issuance is based on a finding that such permits: (1) are applied for in good faith; (2) would not operate to the disadvantage of the listed species which are the subject of the permit; and (3) are consistent with the purposes and policies set forth in section 2 of the ESA. Authority to take listed species is subject to conditions set forth in the permit.

The covered activities include the operation of the two power plants on the Hudson River as described in the “Conservation Plan for the Incidental Take of Shortnose Sturgeon at the Roseton and Danskammer Point Generating Stations” and in the Environmental Assessment.

The publication on August 9, 2000 (65 FR 48677), notified that an application had been filed by CHGE for a permit to incidentally take endangered shortnose sturgeon from the Hudson River distinct population segment of shortnose sturgeon at the Roseton and Danskammer Point power plants on the Hudson River. CHGE submitted an application including a Conservation Plan (CP) on April 20, 2000. The CP describes measures designed to avoid, minimize, mitigate, and monitor the incidental take of shortnose sturgeon associated with operation of the Roseton and Danskammer Point power plants. The decision to issue a permit for the activities as described in the CP is based on a thorough review of the alternatives and of their environmental consequences. The terms and conditions of this permit ensure that the incidental take of shortnose sturgeon through the operation of Roseton and Danskammer Point power plants will not appreciably reduce the likelihood of the survival and recovery of shortnose sturgeon in the Hudson River.

NMFS staff worked with CHGE during the development of the application. During these discussions, CHGE said that the plants would likely be sold to a new owner. Following submission of the application materials, CHGE notified NMFS that it had entered into an agreement to sell Danskammer and Roseton Power Plants to Dynegy. The only commenter on the draft Conservation Plan (CP), Implementing Agreement (IA) and Environmental Assessment (EA) also was aware of the sale and attached a copy of a press release from CHGE announcing the pending sale to Dynegy. The parties plan to complete the sale by the end of the year. NMFS has now been officially informed by CHGE that the buyer will be Dynegy Danskammer, L.L.C. and Dynegy Roseton, L.L.C. Both CHGE and Dynegy have requested that Dynegy be added as a co-applicant and co-permittee in this permit issuance process, as provided for in NMFS’ regulations. As explained in correspondence from CHGE and Dynegy; Dynegy Danskammer, L.L.C. and Dynegy Roseton, L.L.C. are willing to agree to all of the terms and conditions included in the Conservation Plan submitted by CHGE, the IA, and the permit.

Issuance of the permit was based on a finding that CHGE and Dynegy Danskammer, L.L.C. and Dynegy Roseton, L.L.C. had met the permit issuance criteria of 50 CFR 222.307(c). Permit 1269, issued on November 29, 2000, expires on December 31, 2015.

Dated: December 14, 2000.
Wanda L. Cain,
Chief, Endangered Species Division, Office of Protected Resources, National Marine Fisheries Service.

[FR Doc. 00-32422 Filed 12-19-00; 8:45 am]

BILLING CODE: 3510-22-S